DEPARTMENT OF COMMERCE

National Oceanic and Atmospheric Administration

50 CFR Part 226

[Docket No. 130513467-3467-01]

RIN 0648-BD27

Endangered and Threatened Species: Proposed Rule To Designate Critical Habitat for the Northwest Atlantic Ocean Loggerhead Sea Turtle Distinct Population Segment (DPS) and Proposed Determination Regarding Critical Habitat for the North Pacific Ocean Loggerhead DPS; Correction

AGENCY: National Marine Fisheries Service (NMFS), National Oceanic and Atmospheric Administration (NOAA), Commerce.

ACTION: Proposed rule; request for comments; correction.

SUMMARY: In the proposed rule that we, the National Marine Fisheries Service (NMFS), published on July 18, 2013, to designate critical habitat for the loggerhead sea turtle Northwest Atlantic Ocean Distinct Population Segment (DPS) and make a determination regarding critical habitat for the loggerhead sea turtle in the North Pacific Ocean DPS, a map was omitted. This document corrects that oversight and adds the map LOGG-N-17. All other information in the July 18, 2013 document remains unchanged.

DATES: Comments and information regarding this proposed rule must be received by September 16, 2013.

ADDRESSES: You may submit comments on this document, identified by NOAA-NMFS-2013-0079, by any of the following methods:

• Electronic Submission: Submit all electronic public comments via the Federal e-Rulemaking Portal. Go to www.regulations.gov/#!docketDetail;D=NOAA-NMFS-2013-0079, click the “Comment Now!” icon, complete the required fields, and enter or attach our comments.

• Mail: Submit written comments to Susan Pultz, NMFS, Office of Protected Resources, 1315 East West Highway, Silver Spring, MD 20910.

• Fax: 301-713-0376; Attn: Susan Pultz.

FOR FURTHER INFORMATION CONTACT: Susan Pultz, NMFS, Office of Protected Resources 301-427-8472 or susan.pultz@noaa.gov; or Angela Somma, NMFS, Office of Protected Resources 301-427-8474 or angela.somma@noaa.gov.

SUPPLEMENTARY INFORMATION:

Correction

In the Proposed Rule to Designate Critical Habitat for the Northwest Atlantic Ocean Loggerhead Sea Turtle Distinct Population Segment (DPS) and Proposed Determination Regarding Critical Habitat for the North Pacific Ocean Loggerhead DPS that published at (78 FR 43005) on July 18, 2013, the map entitled, “Proposed Loggerhead Critical Habitat: LOGG-N-17 (Nearshore Reproductive, Breeding, Migratory)” was inadvertently omitted. This map should have appeared in the regulatory text for 50 CFR part 226.223 in numerical sequence with the maps of other units. This document corrects that oversight. All information in the proposed rule other than the additional map remains exactly the same as that previously published.

This rule proposes designation of critical habitat for the threatened Northwest Atlantic Ocean Distinct Population Segment (DPS) of the loggerhead sea turtle (Caretta caretta), and also constitutes NMFS' proposed determination that there are no areas meeting the definition of “critical habitat” for the endangered North Pacific Ocean DPS of the loggerhead sea turtle.

Authority: 16 U.S.C. 1533.

Dated: July 26, 2013.
Alan D. Risenhoover,
Director, Office of Sustainable Fisheries, performing the functions and duties of the Deputy Assistant Administrator for Regulatory Programs, National Marine Fisheries Service.

[FR Doc. 2013-18446 Filed 7-31-13; 8:45 am]

BILLING CODE 3510-22-P